DEPARTMENT OF VETERANS AFFAIRS

38 CFR Parts 3, 14, and 20

RIN 2900-AN91

Substitution in Case of Death of Claimant

AGENCY: Department of Veterans Affairs.

ACTION: Reopening of public comment period.

SUMMARY: In response to a request for additional time to submit comments, notice is hereby given that the comment period for the proposed rule, “Substitution in Case of Death of Claimant” (76 FR 8666), published in the Federal Register on February 15, 2011, is reopened and extended. The comment period will reopen for 30 days.

DATES: Comments must be received by VA on or before August 4, 2011.

ADDRESSES: Written comments may be submitted through http://www.Regulations.gov; by mail or hand-delivery to Director, Regulations Management (02REG), Department of Veterans Affairs, 810 Vermont Ave., NW., Room 1068, Washington, DC 20420; or by fax to (202) 273-9026. (This is not a toll-free number.) Comments should indicate that they are submitted in response to “RIN 2900-AN91—Substitution in Case of Death of Claimant.” Copies of comments received will be available for public inspection in the Office of Regulation Policy and Management, Room 1063B, between the hours of 8 a.m. and 4:30 p.m., Monday through Friday (except holidays). Please call (202) 461-4902 for an appointment. (This is not a toll-free number.) In addition, during the comment period, comments may be viewed online through the Federal Docket Management System (FDMS) at http://www.Regulations.gov.

FOR FURTHER INFORMATION CONTACT: Robert Watkins, Department of Veterans Affairs, Veterans Benefits Administration, Compensation and Pension Service, Regulation Staff (211D), 810 Vermont Avenue, NW., Washington, DC 20420, (202) 461-9214. (This is not a toll-free number.)

SUPPLEMENTARY INFORMATION: The Department of Veterans Affairs (VA) is reopening the comment period for the proposed rule, “Substitution in Case of Death of Claimant” (76 FR 8666), published in the Federal Register on February 15, 2011, in response to a request for additional time to submit comments from the National Organization of Veterans' Advocates (NOVA). The proposed regulations would implement section 212 of the Veterans' Benefits Improvement Act of 2008, which allows an eligible survivor to substitute for a deceased claimant in order to complete the processing of the deceased claimant's claim. The comment period will reopen for 30 days.

Approved: June 28, 2011.
William F. Russo,
Deputy Director, Office of Regulation Policy and Management, Office of the General Counsel, Department of Veterans Affairs.

[FR Doc. 2011-16662 Filed 7-1-11; 8:45 am]

BILLING CODE 8320-01-P